DEPARTMENT OF STATE

[Public Notice 4270]

Notice of Meeting: United States International Telecommunication Advisory Committee Preparations for ITU Development Sector Meetings

The Department of State announces meetings of the U.S. International Telecommunication Advisory Committee (ITAC). The purpose of the Committee is to advise the Department on policy, technical and operational issues with respect to international telecommunications standardization bodies such as the International Telecommunication Union. The ITAC for ITU-T Study Group 3 will meet from 2-4 pm March 19 at the Federal Communications Commission; ITAC for ITU-T TSAG will meet March 26 from 9:30-4 pm at INTELSAT (3400 International Drive, NW., Washington, DC, 7th Floor.

Press of business and recent weather delays and closing has been the cause of short notice.

Dated: March 7, 2003.
Marian Gordon,
Director, Telecommunication Development, Department of State.

[FR Doc. 03-6082 Filed 3-12-03; 8:45 am]

BILLING CODE 4710-45-P